NATIONAL AERONAUTICS AND SPACE ADMINISTRATION

[Notice (07-050)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council. The agenda for the meeting includes updates from each of the Council committees, including discussion and deliberation of potential recommendations. The Council Committees address NASA interests in the following areas: Aeronautics, Audit and Finance, Space Exploration, Human Capital, Science, and Space Operations.

DATES: Thursday, July 19, 2007, 8 a.m.—4:30 p.m.

ADDRESSES: Marshall Space Flight Center (MSFC), Building 4200, Room P110 (10th floor), Marshall Space Flight Center, AL 35812-0001. (Note that visitors will first need to go to the MSFC Visitor's Center to be gain access.)

FOR FURTHER INFORMATION CONTACT: Mr. Christopher Blackerby, Designated Federal Official, National Aeronautics and Space Administration, Washington, DC, 20546, 202/358-4688.

SUPPLEMENTARY INFORMATION: The meeting will be open to the public up to the seating capacity of the room. All U.S. citizens desiring to attend the NASA Advisory Council Meeting at the Marshall Space Flight Center (MSFC) must provide their full name, company affiliation (if applicable), citizenship, place of birth, and date of birth to the MSFC Security Office no later than the close of business on July 10, 2007. All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and Passport information to include Country of issue, number, and expiration date to the MSFC Security Office no later than the close of business on July 5, 2007. If the above information is not received by the noted dates, attendees should expect a minimum delay of two (2) hours. All visitors to this meeting will be required to process in through the Redstone/MSFC Joint Visitor Control Center located on Rideout Road, north of Gate 9 prior to entering MSFC. Please provide the appropriate data, via fax 256-544-2101, noting at the top of the page “Public Admission to the NASA Advisory Council Meeting at MSFC.” For security questions, please call Becky Hopson at 256-544-4541.

It is imperative that the meeting be held on this date to accommodate the scheduling priorities of the key participants.

Dated: June 19, 2007.
P. Diane Rausch,
Advisory Committee Management Officer, National Aeronautics and Space Administration.

[FR Doc. E7-12167 Filed 6-22-07; 8:45 am]

BILLING CODE 7510-13-P